DEPARTMENT OF ENERGY

Federal Energy Regulatory Commission

[Project No. 6032-041]

Niagara Mohawk Power Corporation and Fourth Branch Associates (Mechanicville); New York; Notice of Availability of Final Environmental Assessment

March 4, 2002.

In accordance with the National Environmental Policy Act of 1969 and the Federal Energy Regulatory Commission's (Commission) regulations, 18 CFR part 380 (Order No. 486, 52 FR 47897), the Office of Energy Projects has reviewed the application for license for the Mechanicville Hydroelectric Project, located on the Hudson River in Saratoga and Rensselaer Counties, New York, and has prepared a Final Environmental Assessment (FEA) for the project. A Draft Environmental Assessment was issued on November 13, 2001. No federal lands or Indian reservations are occupied by project works or located within the project boundary.

The FEA contains the staff's analysis of the potential environmental impacts of the project and concludes that surrendering the license for the project, with appropriate environmental protective measures, would not constitute a major federal action that would significantly affect the quality of the human environment.

A copy of the FEA is attached to the Commission Order Accepting License Surrender issued on February 28, 2002 and is available for public inspection. The FEA may also be viewed on the web at http://www.ferc.gov using the “RIMS” link—select “Docket #” and follow the instructions (call 202-208-2222 for assistance).

For further information, contact Ellen Armbruster (202) 208-1672.

Magalie R. Salas,
Secretary.

[FR Doc. 02-5697 Filed 3-8-02; 8:45 am]

BILLING CODE 6717-01-P